DEPARTMENT OF HEALTH AND HUMAN SERVICES

National Institutes of Health

National Institute of Environmental Health Sciences; Amended Notice of Meeting

Notice is hereby given of a change in the meeting of the National Institute of Environmental Health Sciences Special Emphasis Panel, March 26, 2002, 7:00 PM to March 28, 2002, 6:00 PM, Hawthorn Suites Hotel, 300 Meredith Drive, Durham, NC, 27713 which was published in the Federal Register on February 22, 2002, 67 FR 8278.

The starting date of this meeting will change to March 27 at 8:30 a.m. The meeting is closed to the public.

Dated: February 27, 2002.
LaVerne Y. Stringfield,
Director, Office of Federal Advisory Committee Policy.

[FR Doc. 02-5494 Filed 3-6-02; 8:45 am]

BILLING CODE 4140-01-M